DEPARTMENT OF THE INTERIOR

National Park Service

[NPS-NER-FIIS-DTS-23982; P0201786a.00.1]

Final Fire Island Wilderness Breach Management Plan/Environmental Impact Statement, Fire Island National Seashore, New York

AGENCY: National Park Service, Department of the Interior.

ACTION: Notice of availability.

SUMMARY: The National Park Service (NPS) announces the availability of the final Fire Island Wilderness Breach Management Plan/Environmental Impact Statement (final Breach Plan/EIS) for Fire Island National Seashore, New York. The final Breach Plan/EIS identifies Alternative 3, No Human Intervention unless Established Criteria are Exceeded, as the NPS preferred alternative. When approved, the management plan will guide the management of the breach that occurred in the Otis Pike Fire Island High Dune Wilderness during Hurricane Sandy.

DATES: The NPS will prepare a Record of Decision (ROD) no sooner than 30 days following publication by the Environmental Protection Agency of a Notice of Availability of the final Breach Plan/EIS in the Federal Register.

ADDRESSES: The final Breach Plan/EIS is available electronically at http://parkplanning.nps.gov/FireIslandBreachManagementPlan. A limited number of printed copies will be available upon request by contacting Fire Island National Seashore, 120 Laurel Street, Patchogue, NY 11772-3596, 631-687-4770.

FOR FURTHER INFORMATION CONTACT: Kaetlyn Jackson, Fire Island National Seashore, 120 Laurel Street Patchogue, NY, 11772, 631-687-4770, kaetlyn_jackson@nps.gov.

SUPPLEMENTARY INFORMATION: Fire Island National Seashore (the Seashore), a unit of the NPS, is located along the south shore of Long Island in Suffolk County, New York. The Seashore encompasses 19,579 acres of upland, tidal, and submerged lands along a 26-mile stretch of the 32-mile barrier island—part of a much larger system of barrier islands and bluffs stretching from New York City to the very eastern end of Long Island at Montauk Point.

On October 29, 2012, Hurricane Sandy created three breaches in the barrier island system off the south shore of Long Island, New York, including one within the Otis Pike Fire Island High Dune Wilderness Area (Fire Island Wilderness) within the Seashore. Managing a breach in designated wilderness is different from managing breaches outside wilderness areas, as the NPS must manage federal wilderness to preserve wilderness character. The existing Breach Contingency Plan is the only guidance currently in effect to address breaches along coastal Long Island from Fire Island Inlet east to Montauk Point but it does not adequately address management of breaches in the Fire Island Wilderness. As a result, pursuant to the National Environmental Policy Act of 1969 (42 U.S.C. 4321 et seq.), the Seashore prepared a draft Fire Island Wilderness Breach Management Plan and Environmental Impact Statement (draft Breach Plan/EIS) to develop a management strategy for the breach in the Fire Island Wilderness that would ensure the continued integrity of the wilderness character; protect the natural and cultural features of the Seashore and its surrounding ecosystems; protect human life; and manage the risk of economic and physical damage to the surrounding areas. The draft Breach Plan/EIS was prepared in cooperation with the US Army Corps of Engineers, New York District, and the New York Department of Environmental Conservation.

The NPS released the draft Breach Plan/EIS for public and agency review and comment beginning on October 27, 2016 and ending on December 12, 2016. The draft Breach Plan/EIS evaluated two action alternatives (1 and 3) and the no-action alternative (2). Each alternative presented a different management strategy to address the breach in the Fire Island Wilderness.

Alternative 1 (Closure Using Mechanical Processes) would mechanically close the breach as soon as possible.

Alternative 2 (Status Determined Entirely by Natural Processes) is the no-action alternative and allows the management of the breach under natural processes, to include evolution and potential growth and/or natural closure.

Alternative 3 (No Human Intervention unless Established Criteria are Exceeded) is identified as the NPS preferred alternative. This alternative allows the evolution, growth, and/or closure of the breach to be determined by natural barrier island processes, and human intervention to close the breach would occur only “to prevent loss of life, flooding, and other severe economic and physical damage to the Great South Bay and surrounding areas,” as allowed by the Otis Pike Fire Island High Dune Wilderness Act. Monitoring data collected since 2012 and professional judgment of physical scientists studying the breach have been used to determine that the three criteria described below are the most logical indicators to alert Seashore staff to changes in the breach that could elevate the risk of severe storm damage in the form of loss of life, flooding, and other severe economic and physical damage, which could lead to a decision to close the breach under Alternative 3:

• Criterion 1: Geologic Controls. Erosion-resistant clay to the east and west of the breach serve as geologic controls for the breach. If the breach migrates beyond these geologic controls, growth of the breach will be less predictable.

• Criterion 2: Cross-Sectional Area. Originally, the cross-sectional area of the breach increased rapidly; however, the breach has reached a dynamic equilibrium in which the cross-sectional area has fluctuated between 300 and 600 square meters. A cross-sectional area within or below this range represents a condition in which the effects of the breach are understood. An increase in cross-sectional area above this range will indicate breach growth and a condition in which the evolution of the breach is less predictable and impacts to the surrounding areas may change.

After reviewing and considering all comments received on the draft Breach Plan/EIS, the NPS has prepared the final Breach Plan/EIS. The final Breach Plan/EIS identifies Alternative 3 as the NPS preferred alternative with one change from the draft Breach Plan/EIS. The description of alternative 3 was edited in the final Breach Plan/EIS to include one additional criterion suggested by commenters:

• Criterion 3: Water Level as Measured by Tide Gauges. Data from tide gauges in Great South Bay will be reviewed to identify changes in the tidal prism, which could indicate a change in the breach conditions.

Other changes made as a result of comments consisted of clarifying text added to the final Breach Plan/EIS that did not substantively change the range of alternatives considered or the environmental consequences of implementing any of the alternatives. Appendix C of the final Breach Plan/EIS discusses the comments received on the draft Breach Plan/EIS and provides NPS responses to substantive comments.

Dated: August 7, 2017.
Cindy MacLeod,
Acting Regional Director, Northeast Region, National Park Service.

Editorial note: This document was received for publication by the Office of the Federal Register on December 13, 2017.

[FR Doc. 2017-27244 Filed 12-18-17; 8:45 am]

BILLING CODE 4312-52-P